DEPARTMENT OF AGRICULTURE

Submission for OMB Review; Comment Request

November 16, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Domestic Quarantines.

OMB Control Number: 0579-0088.

Summary of Collection: Under the Plant Protection Act (7 U.S.C. 7701-7772) the Secretary of Agriculture is authorized to prohibit or restrict the importation, entry, or movement of plants and plant pests to prevent the introduction of plant pests into the United States or their dissemination within the United States. Plant Protection and Quarantine, a program within USDA's Animal and Plant Health Inspection Service, (APHIS) is responsible for implementing this Act and does so through the enforcement of its domestic quarantine regulations contained in Title 7 of the Code of Federal Regulations, CFR part 301. Administering these regulations often requires APHIS to collect information from a variety of individuals who are involved in growing, packing, handling, transporting, plants and plant products. The information collected from these individuals is vital to helping ensure that injurious plant diseases and insect pests do not spread within the United States. Information to be collected is necessary to determine compliance with domestic quarantines. Federal/State domestic quarantines are necessary to regulate the movement of articles from infested areas to noninfested area. Collecting information requires the use of a number of forms and documents. APHIS will collect information using various forms and documents.

Need and Use of the Information: APHIS will collect information by interviewing growers and shippers at the time the inspections are being conducted and by having growers and shippers of exported plants and plant products complete an application for a transit permit. Information is collected from the growers, packers, shippers, and exporters of regulated articles to ensure that the articles, when moved from a quarantined area, do not harbor injurious plant diseases and insect pests. The information obtained will be used to determine compliance with regulations and for issuance of forms, permits, certificates, and other required documents.

Description of Respondents: Business or other for-profit; Farms; State, Local or Tribal Government.

Number of Respondents: 28,244.

Frequency of Responses: Recordkeeping; Reporting: On occasion.

Total Burden Hours: 512,147.

Animal and Plant Health Inspection Service

Title: Bovine Spongiform Encephalopathy; Importation of Animals and Animal Products.

OMB Control Number: 0579-0234.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) regulates the importation of animals and animal products into the United States to guard against the introduction of animal diseases. The regulations in 9 CFR parts 91, 93, 94, 95 and 96 govern the importation of certain animals, birds, poultry, meat, other animal products and byproducts, hay, and straw into the United States in order to prevent the introduction of diseases, such as bovine spongiform encephalopathy (BSE), a chronic degenerative disease that affects the central nervous system of cattle.

Need and Use of the Information: APHIS will collect the information to prevent BSE incursion into the United States using the following: (1) Import Permit Application (VS Form 16-3); (2) Certificate for Inedible Processed Animal Origin Materials and Products from BSE-Free Regions; (3) Cooperative agreements with foreign facilities that process and store regulated materials and products destined for import into the United States; (4) Certification Statement for Products from BSE Minimal Risk Regions and Japan, and Inedible Processed Animal Proteins of Non-Ruminant Origin from BSE-Affected Regions; (5) Seals; (6) Notification of designation of person authorized to break seals; (7) Agreements with slaughter facilities concerning the use of seals on conveyances transporting animals from BSE Minimal Risk Regions; (8) Form for animals imported for immediate slaughter (VS Form 17-33); Certification statement for ruminants. Failure to collect this information would make it impossible for APHIS to effectively prevent BSE-contaminated animal products from entering the United States.

Description of Respondents: Business or other for-profit; Federal Government.

Number of Respondents: 5,949.

Frequency of Responses: Reporting: On occasion.

Total Burden Hours: 70,324.

Ruth Brown,
Departmental Information Collection Clearance Officer.

[FR Doc. 2011-30051 Filed 11-21-11; 8:45 am]

BILLING CODE 3410-34-P